FEDERAL COMMUNICATIONS COMMISSION

Federal Advisory Committee Act; Downloadable Security Technology Advisory Committee

AGENCY: Federal Communications Commission.

ACTION: Notice; correction.

SUMMARY: This document corrects a previous document published at in the Federal Register on February 23, 2015, to provide an explanation for why the Commission rescheduled a meeting.

FOR FURTHER INFORMATION CONTACT: For additional information on this proceeding, contact Brendan Murray, Brendan.Murray@fcc.gov, of the Media Bureau, Policy Division, (202) 418-1573 or Nancy Murphy, Nancy.Murphy@fcc.gov, of the Media Bureau, (202) 418-1043.

Correction

In the Federal Register of February 23, 2015, in FR Doc. 2015-03611, on page 9459 in the second and third columns, and page 9460, in the first column correct the SUPPLEMENTARY INFORMATION section to read:

SUPPLEMENTARY INFORMATION: The meeting will be held on February 23, 2015, from 10:00 a.m. to 4:00 p.m. in the Commission Meeting Room of the Federal Communications Commission, Room TW-C305, 445 12th Street SW., Washington, DC 20554. The DSTAC is a Federal Advisory Committee that will “identify, report, and recommend performance objectives, technical capabilities, and technical standards of a not unduly burdensome, uniform, and technology- and platform-neutral software-based downloadable security system.” On December 8, 2014, the FCC, pursuant to the Federal Advisory Committee Act, established the charter for the DSTAC. The meeting on February 23, 2015, will be the first meeting of the DSTAC. The Commission is required to publish notice of the rescheduled meeting at least 15 calendar days before the rescheduled meeting date absent exceptional circumstances; in this case, the Commission faced exceptional circumstances when it provided notice of the rescheduled meeting. As noted, the original meeting was cancelled due to the closure of the Government on February 17, 2015, the original meeting date. Section 106(d)(4) of the STELA Reauthorization Act of 2014, Public Law. 113-200, requires the Commission to hold the initial meeting by March 4, 2015. February 23, 2015 was the only date before that deadline when (i) the DSTAC Chair was available and (ii) the Commission had a room of appropriate size available. Moreover, section 106(d)(2) of the STELA Reauthorization Act of 2014 requires the DSTAC to submit a report to the Commission by September 4, 2015. The committee's ability to meet that deadline would be significantly compromised if this initial meeting were further delayed. The Commission took steps to mitigate the harm of shortened notice of the meeting. As soon as possible on February 18, 2015, the Commission provided notice that the meeting was rescheduled on (i) the Commission's main Web site, (ii) the Web site for the DSTAC, and (iii) in the Federal Register. In addition, on February 18, 2015, Commission staff contacted the advisory committee members and other interested parties via email to inform them of the rescheduled meeting. For the reasons stated above, we conclude that the Commission had good cause for providing less than 15 calendar days of notice of the rescheduled meeting.

At the meeting, the Committee will discuss (i) the scope of the report that it will deliver to the Commission, (ii) the ultimate goals of interested parties with respect to navigation device conditional access and content security, (iii) recommended working groups and the tasks for which they will be responsible, and (iv) any other topics related to the DSTAC's work that may arise. The Commission will provide audio and/or video coverage of the meeting over the Internet from the FCC's Web page at http://www.fcc.gov/live. The public may submit written comments before the meeting to Brendan Murray, DSTAC Designated Federal Officer, by email to DSTAC@fcc.gov or by U.S. Postal Service Mail to 445 12th Street SW., Room 4-A726, Washington, DC 20554. Open captioning will be provided for this event. Other reasonable accommodations for people with disabilities are available upon request. Requests for such accommodations should be submitted via email to fcc504@fcc.gov or by calling the Consumer & Governmental Affairs Bureau at (202) 418-0530 (voice), (202) 418-0432 (tty). Such requests should include a detailed description of the accommodation needed. In addition, please include a way the FCC can contact you if it needs more information. Please allow at least five days' advance notice; last-minute requests will be accepted, but may be impossible to fill.

Federal Communications Commission.
Marlene H. Dortch,
Secretary.

[FR Doc. 2015-06283 Filed 3-18-15; 8:45 am]

BILLING CODE 6712-01-P